DEPARTMENT OF LABOR

Employment and Training Administration

[TA-W-74,554]

International Business Machines (IBM), Software Group Business Unit, Optim Data Studio Tools QA, San Jose, CA; Notice of Affirmative Determination Regarding Application for Reconsideration

By application dated November 29, 2010, a worker and a state workforce official requested administrative reconsideration of the Department of Labor's negative determination regarding eligibility to apply for Trade Adjustment Assistance (TAA), applicable to workers and former workers of the subject firm. The denial notice was signed on October 29, 2010, and was published in the Federal Register on November 17, 2010 (75 FR 70296).

The negative determination of the TAA petition filed on behalf of workers at International Business Machines (IBM), Software Group Business Unit, Optim Data Studio Tools QA, San Jose, California was based on the finding that that Criterion (1) has not been met because fewer than three workers were separated from Optim Data Studio Tools QA and further separations are not threatened.

In the request for reconsideration the petitioner stated that there were three more additional IBM employees working on the relevant product within the Data Studio Tools QA on a part-time basis and that the development for this product was shifted to a foreign country.

The Department has carefully reviewed the request for reconsideration and the existing record, and has determined that the Department will conduct further investigation to determine if the petitioning workers meet the eligibility requirements of the Trade Act of 1974, as amended.

Conclusion

After careful review of the application, I conclude that the claim is of sufficient weight to justify reconsideration of the U.S. Department of Labor's prior decision. The application is, therefore, granted.

Signed at Washington, DC, this 21st day of January 2011.
Del Min Amy Chen,
Certifying Officer, Office of Trade Adjustment Assistance.

[FR Doc. 2011-2240 Filed 2-1-11; 8:45 am]

BILLING CODE 4510-FN-P